DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Education (BIE) is announcing that the Advisory Board for Exceptional Children will hold its next meeting in Miccosukee, Florida. The purpose of the meeting is to meet the mandates of the Individuals with Disabilities Education Act of 2004 (IDEA) on Indian children with disabilities.

DATES: The Advisory Board will meet on Monday, November 16, 2009, and Tuesday, November 17, 2009, from 8:15 a.m. to 4:30 p.m. Eastern Time.

ADDRESSES: The meetings will be held at the Miccosukee School, U.S. HWY 41 Mile Marker 70, P.O. Box 440021, Tamiami Station, Miami, FL, 33144; telephone (305) 894-2364.

FOR FURTHER INFORMATION CONTACT: Sue Bement, Designated Federal Official, Bureau of Indian Education, Albuquerque Service Center, Division of Performance and Accountability, 1011 Indian School Road NW., P.O. Box 1088, Suite 332, Albuquerque, NM 87103; telephone (505) 563-5274.

SUPPLEMENTARY INFORMATION: The Advisory Board was established to advise the Secretary of the Interior, through the Assistant Secretary-Indian Affairs, on the needs of Indian children with disabilities, as mandated by the Individuals with Disabilities Act of 2004 (Pub. L. 108-446). The meetings are open to the public.

The following items will be on the agenda:

• Advisory Board Ethics Training

• Advisory Board Orientation

• Advisory Board Priority Team Reports

• Report from Gloria Yepa, Supervisory Education Specialist, Bureau of Indian Education, Division of Performance and Accountability

• Public Comments (via conference call, November 16, 2009, meeting only*)

• Review of Advisory Board Annual Report—Dr. Billi Jo Kipp

• Setting Advisory Board Priorities for 2010-2011

• Advisory Board Advice and Recommendations

• Next Advisory Board meeting date and place

* During the November 16, 2009, meeting, time has been set aside for public comment via conference call from 1-1:30 p.m. Eastern Time. The call-in information is: Conference Number 1-888-387-8686, Passcode 4274201.

Dated: November 3, 2009.
Larry Echo Hawk,
Assistant Secretary—Indian Affairs.

[FR Doc. E9-27179 Filed 11-10-09; 8:45 am]

BILLING CODE 4310-6W-P